DEPARTMENT OF COMMERCE

Foreign-Trade Zones Board

[B-52-2024]

Foreign-Trade Zone (FTZ) 235; Authorization of Production Activity; Renaissance Lakewood, LLC.; (Prescription Nasal Spray Products); Lakewood, New Jersey

On September 30, 2024, the Township of Lakewood, grantee of FTZ 235, submitted a notification of proposed production activity to the FTZ Board on behalf of Renaissance Lakewood, LLC, within FTZ 235, in Lakewood, New Jersey.

The notification was processed in accordance with the regulations of the FTZ Board (15 CFR part 400), including notice in the Federal Register inviting public comment (89 FR 82971, October 15, 2024). On January 28, 2025 the applicant was notified of the FTZ Board's decision that no further review of the activity is warranted at this time. The production activity described in the notification was authorized, subject to the FTZ Act and the FTZ Board's regulations, including section 400.14.

Dated: January 28, 2025.
Elizabeth Whiteman,
Executive Secretary.

[FR Doc. 2025-02025 Filed 1-30-25; 8:45 am]

BILLING CODE 3510-DS-P